DEPARTMENT OF JUSTICE

Notice of Lodging of Consent Decree Under the Comprehensive Environmental Response, Compensation, and Liability Act

Notice is hereby given that on July 28, 2005, two proposed consent decrees in United States v. County of Santa Clara, et al., Civil Act No. 05-03073 PVT, were lodged with the United States District Court for the Northern District of California.

The complaint, filed concurrently with lodging of the consent decrees, seeks reimbursement pursuant to section 107 of the Comprehensive Environmental Response, Compensation, and Liability Act, 42 U.S.C. 9607, of natural resource damages arising from mercury contamination from the New Almaden Mine Complex near San Jose, California. One consent decree (the “work” consent decree) provides that seven of the eight parties to that decree will perform a series of restoration projects to address natural resource injuries arising from mercury contamination from the New Aladen Mine Complex near San Jose, California. The remaining party to that decree will pay $85,000 towards the federal and state natural resource trustees' future costs. Under the second decree (the “costs” decree), the settling party will pay $475,000, of which $100,000 will be allocated to the trustee's future costs, and $375,000 to their past costs.

In exchange for performance of the work and payment of costs, the settling parties will receive a covenant-not-to-sue, subject to certain reservations.

The Department of Justice will receive for a period of thirty (30) days from the date of this publication comments relating to the consent decrees. Comments should be addressed to the Assistant Attorney General, Environment and Natural Resources Division, P.O. Box 7611, U.S. Department of Justice, Washington, DC 20044-7611, and should refer to United States v. County of Santa Clara, et al., D.J. Ref. No. 90-11-2-07048.

During the public comment period, the consent decrees may be examined on the following Department of Justice Web-site, http:/www.usdoj.gov/enrd/open.html. Copies of the consent decrees may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy, please enclose a check in the amount of $34.00 (25 cents per page reproduction cost) payable to the U.S. Treasury, for the work consent decree ($11.25 for a copy without attachments), and $6.00 for a copy of the costs decree.

W. Benjamin Fisherow,
Deputy Chief, Environmental Enforcement Section, Environment and Natural Resources Division.

[FR Doc. 05-15377 Filed 8-3-05; 8:45 am]

BILLING CODE 4410-15-M